FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Registration of Mortgage Loan Originators (CFPB G; OMB No. 7100-0328).

FOR FURTHER INFORMATION CONTACT: Federal Reserve Board Clearance Officer—Nuha Elmaghrabi—Office of the Chief Data Officer, Board of Governors of the Federal Reserve System, Washington, DC 20551, (202) 452-3829.

Office of Management and Budget (OMB) Desk Officer—Shagufta Ahmed—Office of Information and Regulatory Affairs, Office of Management and Budget, New Executive Office Building, Room 10235, 725 17th Street NW, Washington, DC 20503, or by fax to (202) 395-6974.

A copy of the Paperwork Reduction Act (PRA) OMB submission, including the reporting form and instructions, supporting statement, and other documentation will be placed into OMB's public docket files. These documents also are available on the Federal Reserve Board's public website at https://www.federalreserve.gov/apps/reportforms/review.aspx or may be requested from the agency clearance officer, whose name appears above.

SUPPLEMENTARY INFORMATION: On June 15, 1984, OMB delegated to the Board authority under the PRA to approve and assign OMB control numbers to collections of information conducted or sponsored by the Board. Board-approved collections of information are incorporated into the official OMB inventory of currently approved collections of information. Copies of the PRA Submission, supporting statements, and approved collection of information instrument(s) are placed into OMB's public docket files.

Final Approval Under OMB Delegated Authority of the Extension for Three Years, Without Revision, of the Following Information Collection

Report title: Registration of Mortgage Loan Originators.

Agency form number: CFPB G.

OMB control number: 7100-0328.

Frequency: Annually.

Respondents: State member banks (SMBs) with $10 billion or less in total assets that are not affiliates of insured depository institutions with total assets of more than $10 billion; subsidiaries of such SMBs that are not functionally regulated within the meaning of section 5(c)(5) of the Bank Holding Company Act; branches and agencies of foreign banks (other than federal branches, federal agencies, and insured state branches of foreign banks); and commercial lending companies owned or controlled by foreign banks (collectively, “banking organizations”), as well as employees of banking organizations who act as residential mortgage loan originators (MLOs).

Estimated number of respondents: MLO's (new)—initial set up, 396 respondents; MLO's (new)—disclosure, 396 respondents; MLO's (existing)—updates for changes, 11,422 respondents; MLO's (existing)—maintenance and disclosures, 22,844 respondents; Banking organizations, 674 respondents.

Estimated average hours per response: MLO's (new)—initial set up, 2.5 hours; MLO's (new)—disclosure, 1 hour; MLO's (existing)—updates for changes, 0.25 hour; MLO's (existing)—maintenance and disclosures, 0.85 hour; Banking organizations, 118 hours.

Estimated annual burden hours: MLO's (new)—initial set up, 990 hours; MLO's (new)—disclosure, 396 hours; MLO's (existing)—updates for changes, 2,856 hours; MLO's (existing)—maintenance and disclosures, 19,417 hours; Banking organizations, 79,532 hours.

General description of report: In accordance with the Secure and Fair Enforcement for Mortgage Licensing Act (S.A.F.E. Act), the Consumer Financial Protection Bureau's (CFPB) Regulation G requires MLOs to register with the Nationwide Mortgage Licensing System and Registry (NMLS or Registry),¹ maintain this registration, obtain a unique identifier, and disclose to consumers upon request and through the Registry their unique identifier and the MLO's employment history and publicly adjudicated disciplinary and enforcement actions. The CFPB's regulation also requires the institutions employing MLOs to adopt and follow written policies and procedures to ensure that their employees comply with these requirements and to conduct annual independent compliance tests.

¹ https://mortgage.nationwidelicensingsystem.org/Pages/default.aspx.

Legal authorization and confidentiality: The CFPB's Regulation G is authorized pursuant to the S.A.F.E. Act and the Dodd-Frank Act, which transferred to the CFPB the “consumer financial protection functions,” including the S.A.F.E. Act, previously vested in certain other Federal agencies.² The Board is authorized to enforce consumer financial protection functions, including the CFPB's Regulation G, with respect to SMBs with $10 billion or less in total assets that are not affiliates of insured depository institutions with total assets of more than $10 billion and the subsidiaries of such SMBs that are not functionally regulated within the meaning of section 5(c)(5) of the Bank Holding Company Act (see 12 U.S.C. 1844(c)(5)) under section 1061 of the Dodd Frank Act.³ The International Banking Act (IBA) requires “every branch or agency of a foreign bank and every commercial lending company controlled by one or more foreign banks . . . [to] conduct its operations in the United States in full compliance with provisions of any law of the United States . . . which impose requirements that protect the rights of consumers in financial transactions, to the extent that the branch, agency, or commercial lending company engages in activities that are subject to such laws.” ⁴ The Board has authority to examine branches and agencies of foreign banks and commercial lending companies owned or controlled by foreign banks and to enforce the provisions of the IBA pursuant to sections 7 and 13 of the IBA.⁵ The CFPB G is mandatory.

² 12 U.S.C. 5101 et seq; 12 U.S.C. 5581.

³ 12 U.S.C. 5581(c).

⁴ 12 U.S.C. 3106a(1).

⁵ 12 U.S.C. 3105(c) and 3108(b).

The unique identifier of MLOs must be made public and is not considered confidential. In addition, most of the information that MLOs submit in order to register with the NMLS will be publicly available. However, certain identifying data about individuals who act as MLOs may be treated as confidential pursuant to exemption 6 of the Freedom of Information Act (FOIA), which protects from disclosure information that “would constitute a clearly unwarranted invasion of personal privacy.” ⁶

⁶ 5 U.S.C. 552(b)(6).

With respect to the information collection requirements imposed on banking organizations, because banking organizations are required to retain their own records and make certain disclosures to customers, the FOIA would only be implicated if the Board's examiners obtained a copy of these records as part of the examination or supervision of a financial institution. Records obtained in this manner may be exempt from disclosure under FOIA exemption 8, regarding examination-related materials.⁷

⁷ 5 U.S.C. 552(b)(8).

Current actions: On January 16, 2020, the Board published an initial notice in the Federal Register (85 FR 2742) requesting public comment for 60 days on the extension, without revision, of the CFPB G. The comment period for this notice expired on March 16, 2020. The Board did not receive any comments.

Board of Governors of the Federal Reserve System, May 5, 2020.
Michele Taylor Fennell,
Assistant Secretary of the Board.

[FR Doc. 2020-09937 Filed 5-8-20; 8:45 am]

BILLING CODE 6210-01-P